DEPARTMENT OF ENERGY

Federal Energy Regulatory Commission

Combined Notice of Filings

Take notice that the Commission has received the following Natural Gas Pipeline Rate and Refund Report filings:

Filings Instituting Proceedings

Docket Numbers: RP16-308-000.

Applicants: Gulfstream Natural Gas System, L.L.C.

Description: § 4(d) rate filing per 154.204: Cleanup Filing Dec2015—FOSA Index to be effective 1/18/2016.

Filed Date: 12/17/15.

Accession Number: 20151217-5118.

Comments Due: 5 p.m. ET 12/29/15.

Docket Numbers: RP16-309-000.

Applicants: Gulf South Pipeline Company, LP.

Description: § 4(d) rate filing per 154.204: Amendment to Neg Rate Agmt (Sequent 34693-39) to be effective 12/17/2015.

Filed Date: 12/17/15.

Accession Number: 20151217-5186.

Comments Due: 5 p.m. ET 12/29/15.

Docket Numbers: RP16-310-000.

Applicants: Kinder Morgan Louisiana Pipeline LLC.

Description: § 4(d) rate filing per 154.204: Tariff Filing to be effective 3/1/2016.

Filed Date: 12/17/15.

Accession Number: 20151217-5206.

Comments Due: 5 p.m. ET 12/29/15.

Docket Numbers: RP16-311-000.

Applicants: Enable Gas Transmission, LLC.

Description: § 4(d) rate filing per 154.204: Negtiated Rate Filing—December 2015 EOG 1008270 Removal to be effective 1/1/2016.

Filed Date: 12/17/15.

Accession Number: 20151217-5208.

Comments Due: 5 p.m. ET 12/29/15.

Docket Numbers: RP16-312-000.

Applicants: Texas Eastern Transmission, LP.

Description: § 4(d) rate filing per 154.204: Negotiated Rate eff 11-1-2016 for NJNG Contract 910230 to be effective 11/1/2016.

Filed Date: 12/18/15.

Accession Number: 20151218-5072.

Comments Due: 5 p.m. ET 12/30/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 18, 2015.
Nathaniel J. Davis, Sr.,
Deputy Secretary.

[FR Doc. 2015-32567 Filed 12-24-15; 8:45 am]

BILLING CODE 6717-01-P